DEPARTMENT OF THE INTERIOR

Minerals Management Service

Agency Information Collection Activities: Submitted for Office of Management and Budget (OMB) Review, Comment Request

AGENCY: Minerals Management Service (MMS), Interior.

ACTION: Notice of a revision of a currently approved information collection (OMB Control Number 1010-0042).

SUMMARY: To comply with the Paperwork Reduction Act (PRA) of 1995, we are submitting to OMB for review and approval an information collection request (ICR) titled “Sale of Federal Royalty Oil, 30 CFR Part 208” which includes Form MMS-4070, Application for the Purchase of Royalty Oil.” We are revising this ICR to include a change of title to more closely reflect the information that we are collecting and to add reporting requirements that were not included in the previous OMB-approved submission. The original title for this ICR was “Application for the Purchase of Royalty Oil.” We are also soliciting comments from the public on this ICR.

DATES: Submit written comments on or before April 11, 2001.

ADDRESSES: You may submit written comments to the Office of Information and Regulatory Affairs, OMB, Attention: Desk Officer for the Department of the Interior (OMB Control Number 1010-0042), 725 17th Street, NW., Washington, DC 20503. Also, please submit copies of your written comments to Dennis C. Jones, Regulations and FOIA Team, Minerals Management Service, Minerals Revenue Management, P.O. Box 25165, MS 320B2, Denver, Colorado 80225. If you use an overnight courier service, our courier address is Building 85, Room A-613, Denver Federal Center, Denver, Colorado 80225.

Public Comment Procedure: Please submit your comments to the offices listed in the ADDRESSES section, or email your comments to us at MRM.comments@mms.gov. Include the title of the information collection and the OMB Control Number in the “Attention” line of your comments; also, include your name and return address. Submit electronic comments as an ASCII file avoiding the use of special characters and any form of encryption. If you do not receive a confirmation that we have received your email, contact Mr. Jones at (303) 231-3046, FAX (303) 231-3385. We will post all comments at http://www.rmp.mms.gov for public review.

Also, contact Mr. Jones to review paper copies of the comments. The comments, including names and addresses of respondents, are available for public review during regular business hours at our offices in Lakewood, Colorado. Individual respondents may request that we withhold their home address from the public record, which we will honor to the extent allowable by law. There also may be circumstances in which we would withhold from the public record a respondent's identity, as allowable by law. If you request that we withhold your name and/or address, state this prominently at the beginning of your comment. However, we will not consider anonymous comments. We will make all submissions from organizations or businesses, and from individuals identifying themselves as representatives or officials of organizations or businesses, available for public inspection in their entirety.

FOR FURTHER INFORMATION CONTACT: Dennis C. Jones, Regulations and FOIA Team, phone (303) 231-3046, FAX (303) 231-3385, email Dennis.C.Jones@mms.gov. You may also contact Dennis Jones to obtain at no cost a copy of our submission to OMB which includes Form MMS-4070.

SUPPLEMENTARY INFORMATION: Title: Sale of Federal Royalty Oil, 30 CFR Part 208 (originally titled—Application for the Purchase of Royalty Oil).

OMB Control Number: 1010-0042.

Bureau Form Number: Form MMS-4070.

Abstract: The Department of the Interior (DOI) is responsible for matters relevant to mineral resource development on Federal and Indian Lands and the Outer Continental Shelf (OCS). The Secretary of the Interior (Secretary) is responsible for managing the production of minerals from Federal and Indian Lands and the OCS; for collecting royalties from lessees who produce minerals; and for distributing the funds collected in accordance with applicable laws.

The Mineral Lands Leasing Act of 1920 and the OCS Lands Act of 1953 authorize the Secretary to sell royalty oil accruing to the United States from oil and gas leases issued pursuant to those acts. “Royalty oil” is crude oil produced from leased Federal lands, both onshore and offshore, in instances in which the Government exercises the option to accept a lessee's royalty payment in oil rather than in money. Title to the oil is transferred to the Government and then sold to an eligible refiner. When the Secretary determines that small refiners do not have access to adequate supplies of oil, the Secretary may dispose of any oil taken as royalty by conducting a sale of such oil, or by allocating it to eligible refiners.

When the Secretary decides to offer royalty oil taken in kind for sale to eligible refiners, we publish a Notice of Availability of Royalty Oil in the Federal Register and other printed media, when appropriate. The Application for the Purchase of Royalty Oil, Form MMS-4070, is submitted by refiners interested in purchasing royalty oil in accordance with instructions in the Notice and with instructions issued by MMS for completion of the form. The information collected is used by MMS to determine if the applicant meets eligibility requirements to contract to purchase royalty oil. Information collected also provides a basis for the allocation of available royalty oil among qualified refiners. Applicants are required to submit a letter of intent from a qualified financial institution stating that the applicant will be granted surety coverage for the royalty oil. The letter of intent must accompany Form MMS-4070.

We are revising the ICR to add reporting requirements that were not covered in the last OMB-approved submission. These requirements are (1) Eligible refiners, who purchase royalty oil, must also submit to MMS two copies of any written third-party agreements, or two copies of a full written explanation of any oral third-party agreements, relating to the method and costs of delivery of royalty oil, or crude oil exchanged for the royalty oil, from the point of delivery under the contract to the purchaser's refinery; (2) the purchaser must submit copies of agreements pertaining to quality differentials which may occur between leases and delivery points; and (3) eligible refiners, who purchase royalty oil, cannot transfer, assign, or sell the rights of interest in a royalty oil contract without written approval of the Director, MMS.

Eligible purchasers shall also furnish an “MMS-specified surety instrument” in an amount equal to the estimated value of royalty oil that could be taken by the purchaser in a 99-day period, plus related administrative charges. If a letter of credit is furnished as the surety instrument, the purchaser must notify MMS of its intent not to renew at least 30 days prior to the anniversary date. (Note: These requirements have been approved by OMB under another ICR and assigned OMB Control Number 1010-0135.)

Submission of these information collection requirements is required for eligible refiners to participate in the RIK Small Refiner Sale Program. Proprietary information is protected, and there are no questions of a sensitive nature included in this information collection.

Frequency: On occasion.

Estimated Number and Description of Respondents: 8 refiners.

Estimated Annual Reporting and Recordkeeping “Hour” Burden: 19 hours.

Estimated Annual Reporting and Recordkeeping “Non-hour Cost” Burden: N/A.

Comments: The PRA provides that an agency shall not conduct or sponsor, and a person is not required to respond to, a collection of information unless it displays a currently valid OMB Control Number. Section 3506(c)(2)(A) of the PRA requires each agency “ * * * to provide notice * * * and otherwise consult with members of the public and affected agencies concerning each proposed collection of information * * * .” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a Federal Register Notice on August 1, 2000 (65 FR 46943), with the required 60-day comment period announcing that we would submit this ICR to OMB for approval. No comments were received.

If you wish to comment in response to this notice, please send your comments directly to the offices listed under the ADDRESSES section of this notice. OMB has up to 60 days to approve or disapprove the information collection by may respond after 30 days. Therefore, to ensure maximum consideration, OMB should receive public comments by April 11, 2001.

MMS Information Collection Clearance Officer: Jo Ann Lauterbach, telephone (202) 208-7744.

Dated: February 27, 2001.
Lucy Querques Denett,
Associate Director for Minerals Revenue Management.

[FR Doc. 01-5953 Filed 3-9-01; 8:45 am]

BILLING CODE 4310-MR-W